DEPARTMENT OF VETERANS AFFAIRS

[OMB Control No. 2900-0585]

Agency Information Collection (Brand Name or Equal) Activities Under OMB Review

Correction

Notice document 2013-17006, appearing on page 42593, in the issue of Tuesday, July 16, 2013 was withdrawn by the Department of Veterans Affairs. It should not have appeared in the Federal Register.

[FR Doc. C1-2013-17006 Filed 7-19-13; 8:45 am]

BILLING CODE 1505-01-D